DEPARTMENT OF ENERGY

Federal Energy Regulatory Commission

[Project No. 12966-002]

Utah Board of Water Resources Notice of Successive Preliminary Permit Application Accepted for Filing and Soliciting Comments, Motions To Intervene, and Competing Applications

On February 1, 2011, the Utah Board of Water Resources filed an application for a successive preliminary permit, pursuant to section 4(f) of the Federal Power Act (FPA), proposing to study the feasibility of the Lake Powell Pipeline Project (project) to be located on Lake Powell, the Colorado River and Sand Hollow reservoir, in Kane, Washington, and Iron Counties, Utah, and Coconino and Mohave Counties, Arizona. The sole purpose of a preliminary permit, if issued, is to grant the permit holder priority to file a license application during the permit term. A preliminary permit does not authorize the permit holder to perform any land-disturbing activities or otherwise enter upon lands or waters owned by others without the owners' express permission.

The proposed pipeline project would consist of building and operating 139 miles of 69-inch-diameter pipeline and penstock; 35 miles of 48- to 30-inch-diameter pipeline; 6 miles of 24-inch-diameter pipeline; a combined conventional peaking and pumped storage hydro station; five conventional in-line hydro stations; and transmission lines on federal, state, and private lands in Kane, Washington, and Iron counties, Utah, and in Coconino and Mohave Counties, Arizona.

Starting at Lake Powell, a water intake would convey water from the Bureau of Reclamation's Lake Powell up to a high point within the Grand Staircase-Escalante National Monument. From there, the water would go through a series of hydroelectric turbines, ending at Sand Hollow reservoir, near St. George, Utah. To serve Iron County, the project includes another pipeline, the Cedar Valley Pipeline System, from the Hurricane Cliffs afterbay reservoir to Cedar Valley in Iron County, Utah.

The applicant proposes to study the generating capacity and energy storage options into the development phase and these will need to be optimized to best suit the physical site and electrical system conditions. At present, the following energy generation components are being studied: (1) An inline single unit, 1-megawatt (MW) facility at Hydro Station 1 in the Grand Staircase-Escalante National Monument; (2) an inline single unit, 1.7-MW facility at Hydro Station 2 east of Colorado City, Arizona; (3) an inline single unit, 1-MW facility in Hildale City, Utah; (4) an inline single unit, 1.7-MW facility above the Hurricane Cliffs forebay reservoir; (5) a 2-unit, 300-MW (150 MW each unit) hydroelectric pumped storage development at Hurricane Cliffs, with the forebay and afterbay sized to provide ten hours of continuous 300-MW output; (6) a single unit, 35-MW conventional energy recovery generation unit built within the Hurricane Cliffs development; and (7) a single unit, 5-MW facility at the existing Sand Hollow reservoir.

Applicant Contact: Mr. Eric Millis, Utah Board of Water Resources, 1594 W. North Temple, Salt Lake City, UT 84116, phone (801) 528-7250, and John H. Clements, Van Ness Feldman, 1050 Jefferson Street NW., Washington, DC 20007-3877, phone (202) 298-1800.

FERC Contact: Jim Fargo; phone: (202) 502-6095.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-12966-002) in the docket number field to access the document. For assistance, contact FERC Online Support.

Dated: February 15, 2011.
Kimberly D. Bose,
Secretary.

[FR Doc. 2011-3884 Filed 2-18-11; 8:45 am]

BILLING CODE 6717-01-P